ENVIRONMENTAL PROTECTION AGENCY

40 CFR Part 81

[AZ-094-FOAb; FRL-7561-6]

Determination of Attainment for the Carbon Monoxide National Ambient Air Quality Standard for the Phoenix Metropolitan Area, Arizona

AGENCY: Environmental Protection Agency (EPA).

ACTION: Proposed rule.

SUMMARY: EPA is proposing to find that the Phoenix metropolitan nonattainment area in Arizona has attained the National Ambient Air Quality Standard (NAAQS) for carbon monoxide (CO) by its Clean Air Act deadline of December 31, 2000. The Phoenix area has had no exceedances of the CO standard since 1996, and has six years of clean air quality data.

DATES: Any comments on this proposal must arrive by October 22, 2003.

ADDRESSES: Comments should be mailed or emailed to Wienke Tax, Office of Air Planning (AIR-2), U.S. Environmental Protection Agency, Region 9, 75 Hawthorne Street, San Francisco, California 94105, tax.wienke@epa.gov, or submit comments at http://www.regulations.gov. We prefer electronic comments.

You can inspect copies of EPA' Federal Register notice and TSD at our Region IX office during normal business hours (see address above). Due to increased security, we suggest that you call at least 24 hours prior to visiting the Regional Office so that we can make arrangements to have someone meet you. The Federal Register notice and TSD are also available as electronic files on EPA's Region 9 Web Page at http://www.epa.gov/region09/air.

FOR FURTHER INFORMATION CONTACT: Wienke Tax, Office of Air Planning, U.S. EPA Region 9, 75 Hawthorne Street, San Francisco, CA 94105-3901, phone: (520) 622-1622, e-mail: tax.wienke@epa.gov.

SUPPLEMENTARY INFORMATION: Throughout this document, the words “we,” “us,” and “our” mean U.S. EPA.

Based on ambient air quality data recorded on Phoenix area monitors during 1999 and 2000, we are proposing to find that the area has met the CO standard by its statutory deadline of December 31, 2000.

In the Rules and Regulations section of this Federal Register, we are making this attainment finding in a direct final action without prior proposal because we believe this action is not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: September 9, 2003.
Wayne Nastri,
Regional Administrator, Region 9.

[FR Doc. 03-24003 Filed 9-18-03; 12:01 pm]

BILLING CODE 6560-50-P